DEPARTMENT OF THE INTERIOR

Bureau of Ocean Energy Management

[OMB Control Number 1010-0106; Docket ID: BOEM-2017-0016]

Agency Information Collection Activities; Oil Spill Financial Responsibility for Offshore Facilities

AGENCY: Bureau of Ocean Energy Management, Interior.

ACTION: Notice of information collection; request for comment.

SUMMARY: In accordance with the Paperwork Reduction Act of 1995, the Bureau of Ocean Energy Management (BOEM) is proposing to renew an information collection request (ICR) with revisions.

DATES: Interested persons are invited to submit comments on or before October 22, 2019.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0106 in the subject line of your comments.

FOR FURTHER INFORMATION CONTACT: To request additional information about this ICR, contact Anna Atkinson by email, or by telephone at 703-787-1025.

SUPPLEMENTARY INFORMATION: In accordance with the Paperwork Reduction Act of 1995, BOEM provides the general public and other Federal agencies with an opportunity to comment on new, proposed, revised, and continuing collections of information. This helps BOEM assess the impact of its information collection requirements and minimizes the public's reporting burden. It also helps the public understand our information collection requirements and provide the requested data in the desired format.

BOEM is soliciting comments on the proposed ICR described below. We are especially interested in public comments addressing the following issues: (1) Is the collection necessary to the proper functions of BOEM; (2) what can BOEM do to ensure that this information be processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in our request to the Office of Management and Budget (OMB) for approval of this ICR. You should be aware that your entire comment—including your address, phone number, email address, or other personal identifying information—may be made publicly available at any time. In order for BOEM to withhold from disclosure your personally identifiable information, you must identify any information contained in the submittal of your comments that, if released, would constitute a clearly unwarranted invasion of your personal privacy. You must also briefly describe any possible harmful consequences of the disclosure of your information, such as embarrassment, injury, or other harm. While you can ask us in your comment to withhold your personally identifiable information from public review, we cannot guarantee that we will be able to do so.

BOEM protects proprietary information in accordance with the Freedom of Information Act (5 U.S.C. 552) and the Department of the Interior's FOIA regulations (43 CFR part 2), and under applicable sections of 30 CFR parts 550 and 552 promulgated pursuant to Outer Continental Shelf Lands Act (OCSLA) at 43 U.S.C. 1352(c).

Abstract: This ICR concerns the paperwork requirements in the regulations in 30 CFR part 553, Oil Spill Financial Responsibility for Offshore Facilities, including any supplementary notices to leases and operators that provide clarification, description, or explanation of these regulations; and forms BOEM-1016 through 1023, and BOEM-1025.

BOEM uses the information collected under 30 CFR part 553 to verify compliance with section 1016 of the Oil Pollution Act, as amended, 33 U.S.C. 2701 et seq. This information is necessary to confirm that applicants can pay for cleanup and damages resulting from oil spills and other hydrocarbon discharges that originate from covered offshore facilities.

BOEM uses forms to collect information to ensure proper and efficient administration of Oil Spill Financial Responsibility. BOEM collects information to:

• Provide a standard method for establishing eligibility for oil spill financial responsibility for offshore facilities;

• Identify and maintain a record of those offshore facilities that have a potential oil spill liability;

• Establish and maintain a continuous record, over the liability term specified in Title I of the Oil Pollution Act of 1990, of financial evidence and instruments established to pay claims for oil spill cleanup and damages resulting from operations conducted on covered offshore facilities and the transportation of oil from covered offshore facilities and wells;

• Establish and maintain a continuous record of responsible parties, as defined in Title I of the Oil Pollution Act of 1990, and their agents or Authorized Representatives for oil spill financial responsibility for covered offshore facilities; and

• Establish and maintain a continuous record, over the liability term specified in Title I of the Oil Pollution Act of 1990, of persons to contact and U.S. Agents for Service of Process for claims associated with oil spills from covered offshore facilities.

Title of Collection: 30 CFR 553, Oil Spill Financial Responsibility for Offshore Facilities.

OMB Control Number: 1010-0106.

Form Number:

• BOEM-1016, Designated Applicant Information Collection;

• BOEM-1017, Appointment of Designated Applicant;

• BOEM-1018; Self-Insurance Information;

• BOEM-1019, Insurance Certificate;

• BOEM-1020, Surety Bond;

• BOEM-1021, Covered Offshore Facility;

• BOEM-1022, Covered Offshore Facility Changes;

• BOEM-1023, Financial Guarantee; and

• BOEM-1025, Independent Designated Applicant Information Certification.

Type of Review: Renewal with revisions of a currently approved information collection.

Respondents/Affected Public: Holders of leases, permits, right-of-way grants, and right-of-use and easement grants in the OCS and in State coastal waters who are responsible parties and/or who will appoint designated applicants. Other respondents may be the designated applicants' insurance agents and brokers, bonding companies, and guarantors. Some respondents may also be claimants.

Total Estimated Number of Annual Responses: 1,823 responses.

Total Estimated Number of Annual Burden Hours: 22,133 hours.

Respondent's Obligation: Mandatory.

Frequency of Collection: On occasion or annual.

Total Estimated Annual Non-Hour Burden Cost: None.

Estimated Reporting and Recordkeeping Hour Burden: The current annual burden hours for this collection are 22,132 hours. BOEM proposes to increase the annual burden hours to 22,133 hours to account for a requirement under 30 CFR 553.62 not previously counted. BOEM, under 30 CFR 553.62, requires the designated applicant to notify their guarantors and responsible parties within 15 calendar days of receiving a claim for removal costs and damages. BOEM plans to add 1 annual burden hour under 30 CFR 553.62 to account for the burden. The burden was not previously counted in this OMB control number, because it was thought to overlap with U.S. Coast Guard's requirements.

The following table details the individual components and respective hour burden estimates of this ICR.

Burden Breakdown
Citation 30 CFR part 553 | Reporting requirement * | Hour burden | Average number of annual reponses | Annual burden hours
Various sections | The burdens for all references to submitting evidence of OSFR, as well as required or supporting information, are covered with the forms below |  |  | 0
Applicability and Amount of OSFR
11(a)(1); 40; 41 | Form BOEM-1016—Designated Applicant Information Certification | 1 | 200 | 200
11(a)(1); 40; 41 | Form BOEM-1017—Appointment of Designated Applicant | 9 | 600 | 5,400
11(a)(1); (2) | Form BOEM-1025—Independent Designated Applicant Information Certification | 1 | 200 | 200
12, 45 | Request for determination of OSFR applicability. Provide required and supporting information | 2 | 5 | 10
15 | Notify BOEM of change in ability to comply | 1 | 1 | 1
15(f) | Provide claimant written explanation of denial | 1 | 15 | 15
Subtotal |  |  | 1,021 | 5,826
Methods for Demonstrating OSFR
21-28; 40 | Form BOEM-1018—Self-Insurance Information, including renewals | 1 | 50 | 50
30; 40; 41; 43 | Form BOEM-1023—Financial Guarantee | 1.5 | 25 | 38
29; 40; 41; 43 | Form BOEM-1019—Insurance Certificate | 120 | 120 | 14,400
31; 40; 41; 43 | Form BOEM-1020—Surety Bond | 24 | 4 | 96
32 | Proposal and supporting information for alternative method to evidence OSFR (anticipate no proposals, but regulations provide the opportunity) | 120 | 1 | 120
Subtotal |  |  | 200 | 14,704
Requirements for Submitting OSFR Information
14; 40; 41; 43 | Form BOEM-1021—Covered Offshore Facilities | 6 | 200 | 1,200
40-42 | Form BOEM-1022—Covered Offshore Facility Changes | 1 | 400 | 400
Subtotal |  |  | 600 | 1,600
Claims for Oil-Spill Removal Costs and Damages
Subpart F | Claims: BOEM is not involved in the claims process. Assessment of burden for claims against the Oil Spill Liability Trust Fund (33 CFR parts 135, 136, 137) falls under the responsibility of the U.S. Coast Guard |  |  | 0
60(d) | Claimant request for BOEM assistance to determine whether a guarantor may be liable for a claim | 2 | 1 | 2
62 | Within 15 calendar days of claim, designated applicant must notify the guarantor and responsible parties of the claim | 1 | 1 | 1
Subtotal |  |  | 2 | 3
Total Burden |  |  | 1,823 | 22,133
* In the future, BOEM may require specified electronic filing of financial/bonding submissions.

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2019-18213 Filed 8-22-19; 8:45 am]

BILLING CODE 4310-MR-P